DEPARTMENT OF LABOR

Mine Safety and Health Administration

[OMB Control No. 1219-0026]

Proposed Extension of Information Collection; Ground Control for Surface Coal Mines and Surface Work Areas of Underground Coal Mines

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Ground Control for Surface Coal Mines and Surface Work Areas of Underground Coal Mines.

DATES: All comments must be received on or before February 25, 2025.

ADDRESSES: Comments concerning the information collection requirements of this notice may be sent by any of the methods listed below. Please note that late comments received after the deadline will not be considered.

• Federal E-Rulemaking Portal: https://www.regulations.gov. Follow the on-line instructions for submitting comments for docket number MSHA-2024-0067.

• Mail/Hand Delivery: DOL-MSHA, Office of Standards, Regulations, and Variances, 201 12th Street South, 4th Floor West, Arlington, VA 22202-5452. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

B. Information Collection

In order to fulfill the statutory mandates to promote miners' health and safety, MSHA requires the collection of information under the information collection request titled “Ground Control for Surface Coal Mines and Surface Work Areas of Underground Coal Mines.” The information collection is intended to ensure that mine operators are properly maintaining the highwalls, pits, and spoil banks of surface coal mines and underground coal mines with surface work areas so that a safe environment is provided for mine employees, management, and others who visit the mine property. Mine operators are required to (1) develop ground control plans for highwalls, pits, and spoil banks and (2) submit the ground control plans. Details on the two requirements are following:

1. Development of Ground Control Plans of Highwalls, Pits and Spoil Banks

Under 30 CFR 77.1000, each operator must establish and follow a ground control plan for the safe control of all highwalls, pits and spoil banks, which must be consistent with prudent engineering design and will ensure safe working conditions. The mining methods employed by the operator must be selected to ensure highwall and spoil bank stability.

2. Submission of Ground Control Plans

Under 30 CFR 77.1000-1, the mine operator must file a copy of the ground control plan, and revisions thereof, with the MSHA District Office in which the mine is located, and must identify: the name and location of the mine; the MSHA identification number if known; and the name and address of the mine operator.

II. Desired Focus of Comments

MSHA is soliciting comments concerning the proposed information collection titled “Ground Control for Surface Coal Mines and Surface Work Areas of Underground Coal Mines.” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment.

Questions about the information collection requirements may be directed to the person listed in the FOR FURTHER INFORMATION CONTACT section of this notice.

III. Current Actions

This information collection request concerns provisions for Ground Control for Surface Coal Mines and Surface Work Areas of Underground Coal Mines. MSHA has updated the data with respect to the number of respondents, responses, time burden, and burden costs supporting this information collection request from the previous information collection request.

Type of Review: Extension, without change, of a currently approved collection.

Agency: Mine Safety and Health Administration.

OMB Number: 1219-0026.

Affected Public: Business or other for-profit.

Number of Annual Respondents: 349.

Frequency: On occasion.

Number of Annual Responses: 349.

Annual Time Burden: 2,398 hours.

Annual Other Burden Costs: $663.

Comments submitted in response to this notice will be summarized and included in the request for Office of Management and Budget approval of the proposed information collection request; they will become a matter of public record and be available at https://www.reginfo.gov.

Song-ae Aromie Noe,
Certifying Officer, Mine Safety and Health Administration.

[FR Doc. 2024-30941 Filed 12-26-24; 8:45 am]

BILLING CODE 4520-43-P